DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: National Flood Insurance Program Policy Forms.

Type of Information Collection: Revision of a currently approved collection.

OMB Number: 1660-0006.

Abstract: The National Flood Insurance Act of 1968 requires that FEMA provide flood insurance so that the risks associated with buildings in flood-prone areas are borne by those located in such areas and not by the taxpayers at large. FEMA Forms 81-16, 81-17, 81-18, 81-25, and 81-67, the Request for Policy Processing and Renewal Information Letter (RPPR1 Letter), and the Renewal Premium Notice are used to collect information needed for NFIP policies to be issued and to accommodate the changing insurance needs of policyholders.

Affected Public: Individuals or Households, Business or Other For Profit, Not-For-Profit Institutions, Farms, and State, Local or Tribal Government.

Number of Respondents: 254,100.

Estimated Time per Respondent: FEMA Form 81-16, Flood Insurance Application, 12 minutes; FEMA Form 81-17, Flood Insurance Cancellation/Nullification Request Form, 7.5 minutes; FEMA Form 81-18, Flood Insurance General Change Endorsement, 9 minutes; FEMA Form 81-25, V-Zone Risk Factor Rating Form, 6 hours; FEMA Form 81-67, Flood Insurance Preferred Risk Policy Application, 15 minutes.

Estimated Total Annual Burden Hours: 25,125.

Frequency of Response: On occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, 500 C Street, SW., Room 316, Washington, DC 20472, facsimile number (202) 646-3347, or email address InformationCollections@fema.gov.

Dated: June 13, 2003.
Edward W. Kernan,
Division Director, Information Resources Management Division, Information Technology Services Directorate.

[FR Doc. 03-15614 Filed 6-19-03; 8:45 am]

BILLING CODE 6718-01-P